DEPARTMENT OF ENERGY

Federal Energy Regulatory Commission

Notice of Application for Amendment of License and Soliciting Comments, Motions to Intervene, and Protests

December 28, 2000.

a. Application Type: Revised Exhibit K, L, and M Drawings for Mammoth Pool Project.

b. Project No.: 2085-010.

c. Dates Filed: November 24, 1999; supplemented November 9, 2000.

d. Applicant: Southern California Edison.

e. Name of Project: Mammoth Pool Project.

f. Location: The Mammoth Pool Project is on the San Joaquin River, Rock Creek, and Ross Creek in Fresno and Madera Counties California, and affecting navigable waters and lands of the United States within Sierra National Forest.

g. Filed Pursuant to: 18 CFR section 4.201(c).

h. Applicant Contact: Bryant C. Danner, Southern California Edison Company, 2244 Walnut Grove Avenue, P.O. Box 800, Rosemead, California 91770; (626) 302-4459.

i. FERC Contact: Any questions on this notice should be addressed to Robert Shaffer at (202) 208-0944 or by e-mail at Robert.Shaffer@ferc.fed.us.

j. Deadline for filing comments and/or motions: February 02, 2001.

Please include the project number (P-2085-010) on any comments or motions filed.

k. Description of Filing: Southern California Edison Company (SCE) filed revised exhibits K, L, and M on November 24, 1999, and November 9, 2000, to reflect as-built conditions of the project. SCE is proposing to increase the project boundary by 6.16 acres (4.92 acres for an existing access road, and 1.24 acres due to more accurate computer mapping), also increasing the acreage of federal lands administered by the U.S. Forest Service.

l. Locations of the Application: A copy of the application is available for inspection and reproduction at the Commission's Public Reference Room, located at 888 First Street, NE, Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

n. Comments and protests may be filed electronically via the Internet in lieu of paper. See, 18 CFR 385.2001(a)(1)(iii) and the instructions on the Commission's web site at http://www.ferc.fed.us/efi/doorbell.htm.

Linwood A. Watson, Jr.,
Acting Secretary.

[FR Doc. 01-171 Filed 1-3-01; 8:45 am]

BILLING CODE 6717-01-M